DEPARTMENT OF DEFENSE

Department of the Navy

Notice of Availability of Government-Owned Inventions; Available for Licensing

AGENCY: Department of the Navy; DoD.

ACTION: Notice.

SUMMARY: The inventions listed below are assigned to the United States Government as represented by the Secretary of the Navy and are available for domestic and foreign licensing by the Department of the Navy.

The following patents are available for licensing: U.S. Patent No. 9,197,822: ARRAY AUGMENTED PARALLAX IMAGE ENHANCEMENT SYSTEM AND METHOD//U.S. Patent No. 9,199,707: CABLE CUTTING SYSTEM FOR RETRIEVAL OF EXERCISE MINES AND OTHER UNDERWATER PAYLOADS//U.S. Patent No. 9,208,386: CROWD STATE CHARACTERIZATION SYSTEM AND METHOD//U.S. Patent No. 9,217,452: BLIND FASTENER ASSEMBLY AND RELEASE PIN APPARATUS//U.S. Patent No. 9,217,455: QUICK RELEASE COLLAPSIBLE BOLT//U.S. Patent No. 9,246,282: ELECTRICALLY CONDUCTING, ENVIRONMENTALLY SEALING, LOAD TRANSFERRING CABLE TERMINATION FITTING//U.S. Patent No. 9,248,894: CONTROLLED CORROSION RELEASE SYSTEM//U.S. Patent No. 9,318,239: CORROSION RESISTANT, ENVIRONMENTALLY SEALING, ELECTRICALLY CONDUCTING, CABLE CONNECTOR//U.S. Patent No. 9,373,898: SWAGED-ON, EXTERNAL ELECTRODE ANCHORING CONNECTION//U.S. Patent No. 9,441,965: OCEANGRAPHIC ASSEMBLY FOR COLLECTING DATA ALONG MULTIPLE WATER COLUMNS//

ADDRESSES: Requests for copies of the patents cited should be directed to Office of Counsel, Naval Surface Warfare Center Panama City Division, 110 Vernon Ave., Panama City, FL 32407-7001.

FOR FURTHER INFORMATION CONTACT: Ms. Brenda Squires, Patent Administration, Naval Surface Warfare Center Panama City Division, 110 Vernon Ave., Panama City, FL 32407-7001, telephone 850-234-4646.

(Authority: 35 U.S.C. 207, 37 CFR part 404)

Dated: April 5, 2017.
A.M. Nichols,
Lieutenant Commander, Judge Advocate General's Corps, U.S. Navy, Federal Register Liaison Officer.

[FR Doc. 2017-07269 Filed 4-10-17; 8:45 am]

BILLING CODE 3810-FF-P